DEPARTMENT OF AGRICULTURE

Natural Resources Conservation Service

Bayou Duralde—Lower Nezpique Watershed, Acadia, Evangeline, and Jefferson Davis Parish, LA

AGENCY: Natural Resources Conservation Service, USDA.

ACTION: Notice of Finding of No Significant Impact.

SUMMARY: Pursuant to section 102(2)(c) of the National Environmental Policy Act of 1969; the Council on Environmental Quality Regulations (40 CFR part 1500); and the Natural Resources Conservation Service Regulation (7 CFR part 650); the Natural Resources Conservation Service, U.S. Department of Agriculture, gives notice that an environmental impact statement is not being prepared for the Bayou Duralde—Lower Nezpique Watershed, Acadia, Evangeline, and Jefferson Davis Parish, Louisiana.

FOR FURTHER INFORMATION CONTACT: Donald W. Gohmert, State Conservationist, Natural Resources Conservation Service, 3737 Government Street, Alexandria, Louisiana, 71302, telephone (318) 473-7751.

SUPPLEMENTARY INFORMATION: The environmental assessment of this federally assisted action indicates that the project will not cause significant local, regional, or national impacts on the environment. As a result of these findings, Donald W. Gohmert, State Conservationist has determined that the preparation and review of an environmental impact statement are not needed for this project.

The recommended plan will consist of land treatment measures that are management type and enduring practices. The plan will treat approximately 30,300 acres or about 61 percent of the 50,000 acres problem area. Project measures will be installed under 75 long term contracts and will allow for the installation of 1,451 grade stabilization structures, 60 filter strips, 32 miles of irrigation pipelines and 21, 250 acres of land leveling. The Notice of a Finding of No Significant Impact (FONSI) has been forwarded to the Environmental Protection Agency and to various federal, state, and local agencies and interested parties. A limited number of copies of the FONSI are available to fill single copy requests at the above address. Basic data developed during the environmental assessment are on file and may be reviewed by contacting Bruce Lehto, Assistant State Conservationist/Water Resources, Natural Resources Conservation Service, 3737 Government Street, Alexandria, Louisiana 71302, telephone (318) 473-7756. No administrative action on implementation of the proposal will be taken until 30 days after the date of this publication in the Federal Register.

(This activity is listed in the Catalog of Federal Domestic Assistance under NO.10.904, Watershed Protection and Flood Prevention, and is subject to the provision of Executive Order 12372, which requires intergovernmental consultation with State and local officials.)

Dated: April 4, 2002.
Donald W. Gohmert,
State Conservationist.

[FR Doc. 02-10252 Filed 4-25-02; 8:45 am]

BILLING CODE 3410-16-P